DEPARTMENT OF TRANSPORTATION

Federal Aviation Administration

14 CFR Part 39

[Docket No. FAA-2014-0009; Directorate Identifier 2013-NM-123-AD]

RIN 2120-AA64

Airworthiness Directives; The Boeing Company Airplanes

AGENCY: Federal Aviation Administration (FAA), DOT.

ACTION: Notice of proposed rulemaking (NPRM).

SUMMARY: We propose to adopt a new airworthiness directive (AD) for all The Boeing Company Model 707 airplanes, and Model 720 and 720B series airplanes. This proposed AD was prompted by reports of scribe-line-related fatigue cracks on Model 727 airplanes, which are similar in design to Model 707 airplanes, and Model 720 and 720B series airplanes. This proposed AD would require inspections for scribe lines in the skin lap joints, external approved repairs, external features, skin butt joints, and decals, and related investigative and corrective actions if necessary. This proposed AD would also require surface finish restoration. We are proposing this AD to detect and correct scribe lines, which can develop into fatigue cracks in the skin and cause rapid decompression of the airplane.

DATES: We must receive comments on this proposed AD by March 27, 2014.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: Deliver to Mail address above between 9 a.m. and 5 p.m., Monday through Friday, except Federal holidays.

For service information identified in this proposed AD, contact Boeing Commercial Airplanes, Attention: Data & Services Management, P.O. Box 3707, MC 2H-65, Seattle, WA 98124-2207; telephone 206-544-5000, extension 1; fax 206-766-5680; Internet https://www.myboeingfleet.com. You may view this service information at the FAA, Transport Airplane Directorate, 1601 Lind Avenue SW., Renton, WA. For information on the availability of this material at the FAA, call 425-227-1221.

Examining the AD Docket

You may examine the AD docket on the Internet at http://www.regulations.gov by searching for and locating Docket No. FAA-2014-0009; or in person at the Docket Management Facility between 9 a.m. and 5 p.m., Monday through Friday, except Federal holidays. The AD docket contains this proposed AD, the regulatory evaluation, any comments received, and other information. The street address for the Docket Office (phone: 800-647-5527) is in the ADDRESSES section. Comments will be available in the AD docket shortly after receipt.

FOR FURTHER INFORMATION CONTACT: Berhane Alazar, Aerospace Engineer, Airframe Branch, ANM-120S, FAA, Seattle Aircraft Certification Office (ACO), 1601 Lind Avenue SW., Renton, WA 98057-3356; phone: 425-917-6577; fax: 425-917-6590; email: Berhane.Alazar@faa.gov.

SUPPLEMENTARY INFORMATION:

Comments Invited

We invite you to send any written relevant data, views, or arguments about this proposal. Send your comments to an address listed under the ADDRESSES section. Include “Docket No. FAA-2014-0009; Directorate Identifier 2013-NM-123-AD” at the beginning of your comments. We specifically invite comments on the overall regulatory, economic, environmental, and energy aspects of this proposed AD. We will consider all comments received by the closing date and may amend this proposed AD because of those comments.

We will post all comments we receive, without change, to http://www.regulations.gov, including any personal information you provide. We will also post a report summarizing each substantive verbal contact we receive about this proposed AD.

Discussion

We have received reports of scribe-line-related fatigue cracks on two Model 727 airplanes, which are similar in design to Model 707 airplanes, and Model 720 and 720B series airplanes. One report was on a Model 727-100 airplane with 44,171 total flight cycles. The crack was near a repaired area and caused rapid decompression of the airplane. Another report was on a Model 727-100 airplane with 51,195 total flight cycles. The crack was at station 1090-1110, at the stringer 4L lap joint. This also resulted in rapid decompression of the airplane. Scribe lines could result in fatigue cracks developing in the skin at scribe line locations. Fatigue cracks, if not corrected, could grow large and cause rapid decompression of the airplane.

Related ADs

This proposed AD is similar to the following four ADs, which require inspections to detect scribe lines in the fuselage skin at certain lap joints, around decal locations, external repair doublers, and other areas, and related investigative and corrective actions if necessary. Those ADs resulted from reports of fuselage skin cracks adjacent to the skin lap joints on airplanes that had scribe lines.

• AD 2013-07-11, Amendment 39-17415 (78 FR 22185, April 15, 2013), for certain Boeing Model 777-200, -200LR, -300, and -300ER series airplanes.

• AD 2010-06-16, Amendment 39-16241 (75 FR 12670, March 17, 2010), for certain Boeing Model 767 series airplanes.

• AD 2010-05-13, Amendment 39-16223 (75 FR 10658, March 9, 2010), corrected March 19, 2010 (75 FR 13225) for all Boeing Model 737-100, -200, -200C, -300, -400, and -500 series airplanes.

• AD 2007-19-07, Amendment 39-15198 (72 FR 60244, October 24, 2007), for certain Boeing Model 757-200, -200PF, and -200CB series airplanes.

Relevant Service Information

We reviewed Boeing 707 Alert Service Bulletin A3539, dated April 26, 2013. For information on the procedures and compliance times, see this service information at http://www.regulations.gov by searching for Docket No. FAA-2014-0009.

FAA's Determination

We are proposing this AD because we evaluated all the relevant information and determined the unsafe condition described previously is likely to exist or develop in other products of the same type design.

Proposed AD Requirements

This proposed AD would require accomplishing the actions specified in the service information identified previously, except as discussed under “Differences Between the Proposed AD and the Service Information.”

The phrase “related investigative actions” is used in this proposed AD. “Related investigative actions” are follow-on actions that: (1) Are related to the primary actions, and (2) further investigate the nature of any condition found. Related investigative actions in an AD could include, for example, inspections.

In addition, the phrase “corrective actions” is used in this proposed AD. “Corrective actions” are actions that correct or address any condition found. Corrective actions in an AD could include, for example, repairs.

Differences Between the Proposed AD and the Service Information

Boeing 707 Alert Service Bulletin A3539, dated April 26, 2013, specifies to contact the manufacturer for instructions on how to accomplish repairs, but this proposed AD would require repairing those conditions in one of the following ways:

• In accordance with a method that we approve; or

• Using data that meet the certification basis of the airplane, and that have been approved by the Boeing Commercial Airplanes Organization Designation Authorization (ODA) whom we have authorized to make those findings.

Costs of Compliance

We estimate that this proposed AD affects 11 airplanes of U.S. registry.

We estimate the following costs to comply with this proposed AD:

Estimated costs
Action | Labor cost | Parts cost | Cost per product | Cost on U.S. operators
Inspection | 96 work-hours × $85 per hour = $8,160 | $0 | $8,160 | $89,760

We have received no definitive data that would enable us to provide cost estimates for the on-condition actions specified in this proposed AD.

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

The Boeing Company: Docket No. FAA-2014-0009; Directorate Identifier 2013-NM-123-AD.

(a) Comments Due Date

We must receive comments by March 27, 2014.

(b) Affected ADs

None.

(c) Applicability

This AD applies to The Boeing Company airplanes, certificated in any category, identified in paragraphs (c)(1) and (c)(2) of this AD.

(1) All Model 707-100 long body, -200, -100B long body, and -100B short body series airplanes; and Model 707-300, -300B, -300C, and -400 series airplanes.

(2) All Model 720 and 720B series airplanes.

(d) Subject

Air Transport Association (ATA) of America Code 53, Fuselage.

(e) Unsafe Condition

This AD was prompted by reports of scribe-line-related fatigue cracks on Model 727 airplanes, which are similar in design to the Model 707 airplanes, and Model 720 and 720B series airplanes. We are issuing this AD to detect and correct scribe lines, which can develop into fatigue cracks in the skin and cause rapid decompression of the airplane.

(f) Compliance

Comply with this AD within the compliance times specified, unless already done.

(g) Scribe Line Inspection

(1) Except as specified in paragraphs (j)(1) and (j)(2) of this AD, at the applicable time specified in paragraph 1.E., “Compliance,” of Boeing 707 Alert Service Bulletin A3539, dated April 26, 2013: Do a detailed inspection of the fuselage skin for scribe lines, in accordance with the Accomplishment Instructions of Boeing 707 Alert Service Bulletin A3539, dated April 26, 2013. If no scribe line is found: Before further flight, do surface finish restoration, in accordance with the Accomplishment Instructions of Boeing 707 Alert Service Bulletin A3539, dated April 26, 2013.

(2) The inspection exceptions described in paragraph 1.E., “Compliance,” of Boeing 707 Alert Service Bulletin A3539, dated April 26, 2013, apply to paragraph (g)(1) of this AD.

(h) Related Investigative and Corrective Actions

If any scribe line is found during any inspection required by paragraph (g)(1) of this AD: At the applicable time specified in paragraph 1.E., “Compliance,” of Boeing 707 Alert Service Bulletin A3539, dated April 26, 2013, except as specified in paragraphs (j)(1) and (j)(2) of this AD, do all applicable related investigative and corrective actions, by doing all applicable actions specified in the Accomplishment Instructions of Boeing 707 Alert Service Bulletin A3539, dated April 26, 2013, except as specified in paragraph (j)(3) of this AD.

(i) Surface Finish Restoration

After completing any actions required by paragraph (h) of this AD: Before further flight, do surface finish restoration, in accordance with the Accomplishment Instructions of Boeing 707 Alert Service Bulletin A3539, dated April 26, 2013.

(j) Exceptions to Paragraph (g) of this AD

(1) Where paragraph 1.E., “Compliance,” of Boeing 707 Alert Service Bulletin A3539, dated April 26, 2013, specifies a compliance time “after the original issue date of this service bulletin,” this AD requires compliance within the specified compliance time after the effective date of this AD.

(2) Where the Condition column of paragraph 1.E., “Compliance,” of Boeing 707 Alert Service Bulletin A3539, dated April 26, 2013, refers to total flight cycles “as of the original issue date of this service bulletin,” this AD applies to the airplanes with the specified total flight cycles as of the effective date of this AD.

(3) Where Boeing 707 Alert Service Bulletin A3539, dated April 26, 2013, specifies to contact Boeing for additional inspections or repair instructions: Before further flight, repair the scribe line or cracking using a method approved in accordance with the procedures specified in paragraph (k) of this AD.

(k) Alternative Methods of Compliance (AMOCs)

(1) The Manager, Seattle Aircraft Certification Office (ACO), FAA, has the authority to approve AMOCs for this AD, if requested using the procedures found in 14 CFR 39.19. In accordance with 14 CFR 39.19, send your request to your principal inspector or local Flight Standards District Office, as appropriate. If sending information directly to the manager of the ACO, send it to the attention of the person identified in paragraph (l)(1) of this AD. Information may be emailed to: 9-ANM-Seattle-ACO-AMOC-Requests@faa.gov.

(2) Before using any approved AMOC, notify your appropriate principal inspector, or lacking a principal inspector, the manager of the local flight standards district office/certificate holding district office.

(3) An AMOC that provides an acceptable level of safety may be used for any repair required by this AD if it is approved by the Boeing Commercial Airplanes Organization Designation Authorization (ODA) that has been authorized by the Manager, Seattle ACO, to make those findings. For a repair method to be approved, the repair must meet the certification basis of the airplane, and the approval must specifically refer to this AD.

(l) Related Information

(1) For more information about this AD, contact Berhane Alazar, Aerospace Engineer, Airframe Branch, ANM-120S, FAA, Seattle Aircraft Certification Office (ACO), 1601 Lind Avenue SW., Renton, WA 98057-3356; phone: 425-917-6577; fax: 425-917-6590; email: Berhane.Alazar@faa.gov.

(2) For service information identified in this AD, contact Boeing Commercial Airplanes, Attention: Data & Services Management, P.O. Box 3707, MC 2H-65, Seattle, WA 98124-2207; telephone 206-544-5000, extension 1; fax 206-766-5680; Internet https://www.myboeingfleet.com. You may view this service information at the FAA, Transport Airplane Directorate, 1601 Lind Avenue SW., Renton, WA. For information on the availability of this material at the FAA, call 425-227-1221.

Issued in Renton, Washington, on January 18, 2014.
Jeffrey E. Duven,
Manager, Transport Airplane Directorate, Aircraft Certification Service.

[FR Doc. 2014-02717 Filed 2-7-14; 8:45 am]

BILLING CODE 4910-13-P